FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than March 7, 2025.

A. Federal Reserve Bank of Kansas City (Jeffrey Imgarten, Assistant Vice President) 1 Memorial Drive, Kansas City, Missouri 64198-0001. Comments can also be sent electronically to KCApplicationComments@kc.frb.org:

1. The Thomas E. Wolf Trust, as amended and restated on August 17, 2022, the Thomas E. Wolf Family Trust, a subtrust created under the Thomas E. Wolf Trust, the Deanna H. Wolf Trust, as amended and restated on August 17, 2022, and Deanna H. Wolf, as trustee of the aforementioned trusts, all of North Bend, Nebraska; and the John A. Wolf Revocable Trust, dtd June 15, 2023, and the Linda W. Wolf Revocable Trust, dtd June 15, 2023, and John A. Wolf, as trustee of the aforementioned trusts, all of Grand Island, Nebraska; to become members of the Arden Wolf Family Group, a group acting in concert, to acquire voting shares of Platte Valley Bancorp, Inc., and thereby indirectly acquire voting shares of Platte Valley Bank, both of North Bend, Nebraska.

B. Federal Reserve Bank of Dallas (Lindsey Wieck, Director, Mergers & Acquisitions) 2200 North Pearl Street, Dallas, Texas 75201-2272. Comments can also be sent electronically to Comments.applications@dal.frb.org:

1. The Charles J. Whelan, Jr. 2024 Trust (Trust), Cynthia Ann Whelan, as trustee, and Charles J. Whelan, Jr., all of Kerrville, Texas; to acquire voting shares of Relationship Financial Corporation (Company), and thereby indirectly acquire voting shares of Guadalupe Bank (Bank), both of Kerrville, Texas, and for the Trust to join the Whelan Family Group, a group acting in concert.

In addition, Charles Joseph Whelan, Jr., Cynthia Ann Whelan, Kevin Joseph Whelan, and Adria Nicole Whelan, all of Kerrville, Texas; Leslie Whelan White and Aaron James White, both of Austin, Texas; as part of the Whelan Family Group, to retain voting shares of the Company, and thereby indirectly retain voting shares of the Bank.

Board of Governors of the Federal Reserve System.
Erin Cayce,
Assistant Secretary of the Board.

[FR Doc. 2025-02862 Filed 2-19-25; 8:45 am]

BILLING CODE P